DEPARTMENT OF THE INTERIOR

Office of the Secretary

Bureau of Land Management

Fish and Wildlife Service

Resubmission of Comments; Interruption of Mail Service

AGENCY: Fish and Wildlife Service and the Bureau of Land Management.

ACTION: Resubmission of comments on specific notices.

SUMMARY: The Office of the Secretary, along with the Fish and Wildlife Service and the Bureau of Land Management give notice to the public of the opportunity to resubmit comments on specific notices. This action is necessitated by the possibility that some comments that were submitted by the public in response to notices may not have been timely received by the identified bureaus due to the shutdown of the Brentwood Postal Facility in Washington, DC, on October 21, 2001. The postal facility was closed because of the threat of anthrax contamination. This action is also necessitated because the Department's internet access, including receipt of outside e-mail, has been shut down under court order until further notice. Comments which may have been sent to the Department by email since December 4, 2001, have not been received by the Department and should be resubmitted by mail to the addresses specified herein.

DATES: Resubmittal of comments on identified notices must be postmarked no later than February 15, 2002.

ADDRESSES: The addresses for the resubmittal of comments are as follows:

• Fish and Wildlife Service, 4401 North Fairfax Drive, Office of Policy, Directives and Management, Arlington, VA 22203, unless otherwise noted.

• Bureau of Land Management, Eastern States Office, 7450 Boston Blvd., Springfield, VA 22135, unless otherwise noted.

FOR FURTHER INFORMATION CONTACT: Duncan L. Brown, Office of the Secretary, Washington, DC, 202/208-4582.

SUPPLEMENTARY INFORMATION: The purpose of this document is to allow interested parties the opportunity to resubmit comments they may have sent to the Washington, DC, offices of the Fish and Wildlife Service and the Bureau of Land Management on certain identified notices. This action is taken due to the closure of the Brentwood Postal Facility, Washington, DC, has caused a delay in the delivery of mail to the Department's Washington, DC, agency addresses. In addition, the Department's internet access, including receipt of outside email, has been shut down under court order until further notice and comments which were sent by email to the Department by email since December 4, 2001, have not been received by the Department. To guarantee the collection of all responsive comments, the Department has decided that it will extend to all interested parties the opportunity to resubmit their written comments on the identified notices to the agency addresses identified in the ADDRESSES section of this document. The affected notices are identified as follows:

Notices

FWS Light Goose Management—Availability of DEIS

FWS ESA Permit Applications

FWS ESA/MMPA Permit Applications

FWS Availability of EA/Application for ITP—Deltona, Florida, Florida Scrub-Jay, Eastern Indigo Snake

FWS Availability of EA/HCP/Application for ITP—Interagency Task Force—Six Points Road, Indiana

FWS ITP—Houston Toad—Lower Colorado River Authority

FWS Availability of Draft EA/CCP for Salinas River NWR

FWS Wild Bird Conservation Act Permit Application

FWS Preparation of EIS for South Subregion NCCP/HCP—Orange County, CA

FWS Incidental Take Permit Request, Houston Toad

FWS Receipt of Application for ITP—Palmas del Mar, PR

FWS Availability of CCP/EA for Antioch Dunes NWR

FWS Availability of Draft EA, June Sucker Recovery Plan

FWS Availability of CCP/EA for Seedskadee NWR

FWS Availability of of EA/HCP; ITP Application—Golf Highlands/Fort Morgan—Turtles and Beach mouse

FWS Availability of CCAA—Georgia Power—Robust Redhorse

FWS Availability of Draft EA/RP for Charles George Landfill Superfund Site

FWS Availability of Draft EA/Application for Incidental Take—Pinery Glen, CO

FWS Availability of EA/Receipt of Application for Incidental Take—Riverside Fairy Shrimp—Redhawk

FWS Application to Amend West Fork Timber Incidental Take Permit—Canada Lynx/Bull Trout

FWS Availability of EA/HCP—Bald Eagles—The Woodlands, Texas

FWS Draft EIS—Light Goose Management

FWS Draft Southwestern Willow Flycatcher Recovery Plan—Reopening of Comment Period

FWS PRA—Employee Exit Survey (Former Employees)

FWS Intent to Prepare Comp. Conservation Plan/NEPA Document—Sacramento River NWR

FWS Intent to Prepare EIS/Scoping Meeting—Roosevelt HCP

FWS Availability of Draft Recovery Plan—Pacific Coast Population of Western Snowy Plover

FWS PRA—Marine Mammals—Incidental Take

FWS Intent to Prepare Comp. Conservation Plans—Arrowwood and Sand Lake NWRs

FWS Availability of Draft EA/Incidental Take Permit Applications, Flaglere County, Florida

FWS Intent to Prepare EIS/EIR—South Subregion Natural Community Conservation Plan/HCP, Orange County, CA

FWS Preparation of EIS/EIS—W. Riverside County HCP

FWS Submission—Refuge Special Use Permits

FWS Environmental Assessment—Major Amendment to San Diego Subarea Plan for Multiple Species Conservation Program Plan

FWS Status Review—Wasatch Front Population of the spotted frog

FWS PRA—State Certification of Expenditures

FWS Sonoran Pronghorn Recovery Plan—Criteria and Time Estimate for Recovery

FWS Availability of Proposed Peregrine Falcon Monitoring Plan

FWS Availability of EIS/Safe Harbor Application—San Joaquin Kit Fox

FWS Availability of EIS on Light Goose Management

FWS Availability of Draft CCP/EA—Necedah NWR, WI

FWS Availability of Draft Implementation Plan for Falconry Take of Nestling Peregrine Falcons

FWS Reopening of Comment Period—4 Colorado Basin Endangered Fish Species

FWS Availability of Draft EA for Mandalay Bank Protection Project, LA

FWS Intent to Prepare Comp. Conservation Plan/NEPA Document—Sacramento River NWR

FWS Intent to Prepare EIS/Scoping Meeting—Roosevelt HCP

FWS Availability of Draft Recovery Plan—Pacific Coast Population of Western Snowy Plover

FWS PRA—Marine Mammals—Incidental Take

FWS Availability of Draft EA/Incidental Take Permit Application, Flagler County, Florida

FWS Intent to Prepare EIS/EIR—South Subregion Natural Community Conservation Plan/HCP, Orange County, CA

FWS Preparation of EIS/EIR—W. Riverside County HCP

FWS PRA Submission—Refuge Special Use Permits

FWS Environmental Assessment—Major Amendments to San Diego Subarea Plan for Multiple Species Conservation Program Plan

FWS Status Review—Wasatch Front Population of the spotted frog

FWS PRA—State Certification of Expenditures

BLM Availability and Protest Period for Planning Analysis/EA for Lands in Arkansas and Louisiana

BLM Availability of FEIS for Pueblo of San Felipe Land Exchange

BLM Availability and Protest Period for Proposed Planning Analysis to Acquire Land in Fairfax County, Virginia by BLM

BLM Availability of Proposed Southeastern Oregon RMP and FEIS and Proposed Area of Critical Environmental Concern Designations

BLM Cadiz Groundwater Storage and Dry-Year Supply Program FEIS (EPA Notice published October 5, 2001)

Dated: January 15, 2002.
P. Lynn Scarlett,
Assistant Secretary—Policy Management and Budget.

[FR Doc. 02-2468 Filed 1-31-02; 8:45 am]

BILLING CODE 4310-RK-M